DEPARTMENT OF ENERGY

Federal Energy Regulatory Commission

[Docket No. IC14-3-000]

Commission Information Collection Activities (Ferc-Ferc-549d); Comment Request; Extension

AGENCY: Federal Energy Regulatory Commission, DOE.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-549D (Quarterly Transportation and Storage Report for Intrastate Natural Gas and Hinshaw Pipelines).

DATES: Comments on the collection of information are due January 21, 2014.

ADDRESSES: You may submit comments (identified by Docket No. IC14-3-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: Quarterly Transportation and Storage Report for Intrastate Natural Gas and Hinshaw Pipelines.

OMB Control No.: 1902-0253

Type of Request: Three-year extension of the FERC-549D information collection requirements with no changes to the current reporting requirements.

Abstract: The reporting requirements under FERC-549D are required to carry out the Commission's policies in accordance with the general authority in Sections 1(c) of the Natural Gas Act (NGA) ¹ and Sections 311 of the Natural Gas Policy Act of 1978 (NGPA).² This collection promotes transparency by collecting and making available intrastate and Hinshaw pipeline transactional information. The Commission collects the data upon a standardized form with all requirements outlined in 18 CFR 284.126.

¹ 15 U.S.C. 717-817-w.

² 15 U.S.C. 3301-3432.

The FERC Form 549D collects the following information:

• Full legal name and identification number of the shipper receiving service;

• Type of service performed for each transaction;

• The rate charged under each transaction;

• The primary receipt and delivery points for the transaction, specifying the rate schedule/name of service and docket were approved;

• The quantity of natural gas the shipper is entitled to transport, store, and deliver for each transaction;

• The term of the transaction, specifying the beginning and ending month and year of current agreement;

• Total volumes transported, stored, injected or withdrawn for the shipper; and

• Annual revenues received for each shipper, excluding revenues from storage services.

Filers submit the Form-549D on a quarterly basis.

Access to the FERC-549D Information Collection Materials: A copy of the current form and related materials can be found at http://www.ferc.gov/docs-filing/forms.asp#549d, but will not be included in the Federal Register. The Commission will not publish these materials in the Federal Register.

Type of Respondents: Intrastate natural gas and Hinshaw pipelines.

Estimate of Annual Burden: ³ The Commission estimates the total Public Reporting Burden for this information collection as:

³ The Commission defines burden as the total time, effort, or financial resources expended by persons to generate, maintain, retain, or disclose or provide information to or for a Federal agency. For further explanation of what is included in the information collection burden, reference 5 Code of Federal Regulations 1320.3.

FERC-549D—Quarterly Transportation and Storage Report for Intrastate Natural Gas and Hinshaw Pipelines
Format of pipelines' filing | Number of respondents | Number of responses per respondent | Total number of responses | Average burden hours per response | Estimated total annual burden
| (A) | (B) | (A) × (B) = (C) | (D) | (C) × (D)
Implementation Burden
PDF filings | 3 | 1 | 3 | 68 | 204
XML filings | 2 | 1 | 2 | 104 | 208
Ongoing Burden
PDF filings | 76 | 4 | 304 | 12.5 | 3,800
XML filings | 33 | 4 | 132 | 10 | 1,320
TOTAL | ⁴ 109 |  | 109 |  | 5,532

⁴ This figure does not include the five respondents for the “Implementation Burden”.

The total estimated annual cost burden to respondents is $436,254 [5,532 hours $78.86/hour ⁵ = $436,254].

⁵ This cost represents the average cost of four career fields: Legal ($128.02/hour), Accountants ($48.58/hour), Management Analyst ($56.27/hour), and Computer and Information ($82.67/hour); this cost also includes benefit costs within the hourly estimates.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: November 15, 2013.
Kimberly D. Bose,
Secretary.

[FR Doc. 2013-27956 Filed 11-20-13; 8:45 am]

BILLING CODE 6717-01-P